DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Health Resources and Services Administration Core Clinical Measures Implementation Feasibility Study

In response to the Health and Human Service's Department-wide objectives and HRSA's strategic goals, a set of core clinical performance measures have been established. These measures will assist in the evaluation of HRSA program performance in defined clinical areas to facilitate quality improvement activities for HRSA and its grantees. The purpose of the proposed voluntary feasibility study is to learn from HRSA's health service delivery grantees, which have different reporting capacities, about their abilities to report national standardized measures. More specifically, the study will help HRSA to understand: (1) The factors involved in the HRSA grantee decision making processes around measure selection/choice; (2) Grantees' data collection capacity including tools, processes and infrastructure; (3) Level of grantee effort involved in measure reporting; and (4) How the performance process will impact the grantees' quality improvement efforts. Overall the feasibility study will allow HRSA to query its grantees related to the newly introduced core clinical performance measure set.

The feasibility study includes the actual data collection of the proposed clinical measures along with a report form to assess burden, data collection and reporting capacity, and technical assistance needs. Additionally, the study will provide HRSA with the opportunity to refine instructions and performance measure definitions accordingly in preparation for the actual implementation of the clinical measures.

The estimated annualized response burden is as follows:

| Number of respondents | Responses per respondent | Total responses | Hours per response | Total hour burden
Clinical Measures | 50 | 1 | 50 | 40 | 2,000
Report Form | 50 | 1 | 50 | 1.5 | 75
Total | 50 |  | 50 |  | 2075

Send comments to Susan G. Queen, Ph.D., HRSA Reports Clearance Officer, Room 10-33, Parklawn Building, 5600 Fishers Lane, Rockville, MD 20857. Written comments should be received within 60 days of this notice.

Dated: November 8, 2006.
Cheryl R. Dammons,
Director, Division of Policy Review and Coordination.

[FR Doc. E6-19377 Filed 11-15-06; 8:45 am]

BILLING CODE 4165-15-P